DEPARTMENT OF HEALTH AND HUMAN SERVICES

Centers for Disease Control and Prevention

[60Day-16-0955; Docket No. CDC-2016-0089]

Proposed Data Collections Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as requires by the Paperwork Reduction Act of 1995. This notice invites comments on Early Hearing Detection and Intervention Pediatric Audiology Links to Services (EDHI-PALS)

DATES: Written comments must be received on or before November 7, 2016.

ADDRESSES: You may submit comments, identified by Docket No. CDC-2016-0089 by any of the following methods:

• Federal eRulemaking Portal: Regulations.gov. Follow the instruction for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulation.gov, including any personal information provided. For access to the docket to read the background documents or comments received, go to Regulations.gov.

FOR FURTHER INFORMATION CONTACT: Leroy A. Richardson, Information Collection Review Office, Centers for Disease Control and Prevention, 1600 Clifton Road NE., MS-D74, Atlanta, Georgia 30329.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, and each reinstatement of previously approved information collection before submitting the collect to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Early Hearing Detection and Intervention—Pediatric Audiology Links to Service (EHDI-PALS) Survey (OMB No. 0920-0955, Expiration 03/31/2017)—Extension—National Center on Birth Defects and Developmental Disabilities (NCBDDD), Centers for Disease Control and Prevention (CDC).

Background and Brief Description

The Division of Human Development and Disability, located within NCBDDD, promotes the health of babies, children, and adults, with a focus on preventing birth defects and developmental disabilities and optimizing the health outcomes of those with disabilities. Since the passage of the Early Hearing Detection and Intervention (EHDI) Act, 98% of newborn infants are now screened for hearing loss prior to hospital discharge. However, many of these infants have not received needed hearing tests and follow up services after their hospital discharges. The 2013 national average loss to follow-up/loss to documentation rate is at 32%. This rate remains an area of critical concern for state EHDI programs and CDC-EHDI team's goal of timely diagnosis by 3 months of age and intervention by 6 months of age. Many states cite the lack of audiology resources as the main factor behind the high loss to follow-up. To compound the problem, many pediatric audiologists may be proficient evaluating children age 5 and older but are not proficient with diagnosing infants or younger children because children age 5 and younger require a different skill set. There is still no existing literature or database available to help states verify and quantify their states' true follow up capacity until this project went live in 2013.

Meeting since April 2010, the EHDI-PALS workgroup has sought consensus on the loss to follow-up/loss to documentation issue facing the EHDI programs. A survey based on standard of care practice was developed for state EHDI programs to quantify the pediatric audiology resource distribution within their state, particularly audiology facilities that are equipped to provide follow up services for children age five and younger. After three years of data collection, data suggested that children residing in certain regions of the US who were loss to follow up were due to the distance parents had to travel to reach a pediatric audiology facility. For example, parents who reside in western region of Nebraska and Iowa on average have to drive over 100 miles and in Montana over 200 miles to reach a pediatric audiology facility.

CDC is requesting an Office of Management and Budget (OMB) approval to continue collecting audiology facility information from audiologists or facility managers so both parents, physicians and state EHDI programs will have a tool to find where the pediatric audiology facilities are located. This survey will continue to allow the CDC-EHDI team and state EHDI programs to compile a systematic, quantifiable distribution of audiology facilities and the capacity of each facility to provide services for children age five and younger. The data collected will also allow the CDC-EHDI team to analyze facility distribution data to improve technical assistance to state EHDI programs.

There will be no revision done to the survey because the data collected in the past three years has proven to be valuable and appropriate as evidenced by the high usage rate. Consumers have accessed the facility information over 140,000 times as of April 2016. To minimize burden and improve convenience, the survey will continue to be available via a secure password protected Web site. Placing the survey on the internet ensures convenient, on-demand access by the audiologists. Financial cost is minimized because no mailing fee will be associated with sending or responding to this survey.

EHDI-PALS currently has 1,005 facilities in the database since the beginning of the data collection. All 1,005 facilities' contact will receive a brief email from the University of Maine to remind them to review their survey answers. It is estimated that approximately 800 audiologists will do so. It takes approximately two minutes per person to review the survey answers. Both the American Speech-Language-Hearing Association and the American Academy of Audiology are members of the EHDI-PALS workgroup and will continue to disseminate a request through association e-newsletters and e-announcements to all audiologists who provide services to children younger than five years of age to complete the EHDI-PALS survey. It is estimated that potentially an additional 400 new audiologists will read through the purpose statement located on page one of the survey to decide whether or not to complete the survey. This will take one minute per person. It is estimated that 200 audiologists will complete the survey which will average nine minutes per respondent. The nine minutes calculation is based on a previous timed pre-test with six volunteer audiologists. There are no costs to respondents other than their time.

The total burden hours are 64.

Form name | Number of respondents | Number of responses per respondent | Average burden per response (in hours) | Total burden (in hours)
Annual Survey Review | 800 | 1 | 2/60 | 27
Survey Introduction | 400 | 1 | 1/60 | 7
Survey | 200 | 1 | 9/60 | 30
Total | 1,400 |  |  | 64

Leroy A. Richardson,
Chief, Information Collection Review Office, Office of Scientific Integrity, Office of the Associate Director for Science, Office of the Director, Centers for Disease Control and Prevention.

[FR Doc. 2016-21609 Filed 9-7-16; 8:45 am]

BILLING CODE 4163-18-P